ENVIRONMENTAL PROTECTION AGENCY

[CO-001-0039; FRL-6731-3]

Adequacy Status of Submitted State Implementation Plans for Transportation Conformity Purposes

AGENCY: Environmental Protection Agency (EPA).

ACTION: Notice of inadequacy determination.

SUMMARY: In this document, EPA is notifying the public that we have found that the motor vehicle emissions budgets in the submitted Denver ozone maintenance plan are inadequate for conformity purposes. On March 2, 1999, the D.C. Circuit Court ruled that submitted SIPs cannot be used for conformity determinations until EPA has affirmatively found them adequate. As a result of our finding, the Denver Regional Council of Governments and the U.S. Department of Transportation cannot use the motor vehicle emissions budgets from the submitted Denver ozone maintenance plan for future conformity determinations.

DATES: This document is effective July 24, 2000.

FOR FURTHER INFORMATION CONTACT: Tim Russ, Air & Radiation Program (8P-AR), United States Environmental Protection Agency, Region 8, 999 18th Street, Suite 500, Denver, Colorado 80202-2466, ph. (303) 312-6479. The letter documenting our finding is available at EPA's conformity website: http://www.epa.gov/oms/transp/conform/adequacy.htm.

SUPPLEMENTARY INFORMATION: Today's notice is simply an announcement of a finding that we have already made. EPA Region 8 sent a letter to the Colorado Air Pollution Control Division on June 19, 2000 stating that the motor vehicle emissions budgets in the submitted Denver ozone maintenance plan are inadequate. This finding has also been announced on EPA's conformity website: http://www.epa.gov/oms/transp/conform/adequacy.htm.

Transportation conformity is required by section 176(c) of the Clean Air Act. EPA's conformity rule requires that transportation plans, programs, and projects conform to state air quality implementation plans (SIPs) and establishes the criteria and procedures for determining whether or not they do. Conformity to a SIP means that transportation activities will not produce new air quality violations, worsen existing violations, or delay timely attainment of the national ambient air quality standards.

The criteria by which we determine whether a SIP's motor vehicle emission budgets are adequate for conformity purposes are outlined in 40 CFR 93.118(e)(4). Please note that an adequacy review is separate from EPA's completeness review, and it also should not be used to prejudge EPA's ultimate approval of the SIP. Even if we find a budget adequate, the SIP could later be disapproved, and vice versa.

We've described our process for determining the adequacy of submitted SIP budgets in guidance (May 14, 1999 memo titled “Conformity Guidance on Implementation of March 2, 1999 Conformity Court Decision”). We followed this guidance in making our adequacy determination.

Authority: 42 U.S.C. 7401 et seq.

Dated: June 26, 2000.
Rebecca W. Hanmer,
Acting Regional Administrator, Region VIII.

[FR Doc. 00-17191 Filed 7-6-00; 8:45 am]

BILLING CODE 6560-50-P